DEPARTMENT OF THE INTERIOR

Office of the Special Trustee for American Indians

Notice of Proposed Renewal of Information Collection

AGENCY: Office of the Special Trustee for American Indians, Interior.

ACTION: Notice and request for comments.

SUMMARY: In compliance with section 3506(c)(2)(A) of the Paperwork Reduction Act of 1995, the Office of the Special Trustee for American Indians, Department of the Interior, announces that it has submitted a request for proposed extension of an information collection to the Office of Management and Budget and requests public comments on this submission.

DATES: OMB has up to 60 days to approve or disapprove the information collection request, but may respond after 30 days; therefore, public comments should be submitted to OMB by September 16, 2009, in order to be assured of consideration.

FOR FURTHER INFORMATION CONTACT: Send your written comments by facsimile to (202) 395-5806 or e-mail (OIRA_DOCKET@omb.eop.gov) to the Office of Information and Regulatory Affairs, Office of Management and Budget, Attention: Department of the Interior Desk Officer (1035-0003). Also, please send a copy of your comments to Linda S. Thomas, Office of the Secretary Information Collection Clearance Officer, U.S. Department of the Interior, MS 116-SIB, 1951 Constitution Avenue, NW., Washington, DC 20240, or send an e-mail to Linda_Thomas@nbc.gov. Additionally, you may fax them to her at (202) 219-2374. Individuals providing comments should reference OMB control number 1035-0003, “Application to Withdraw Tribal Funds from Trust Status, 25 CFR 1200.”

FOR FURTHER INFORMATION CONTACT: To request more information on this information collection or to obtain a copy of the collection instrument, please write to Frank Perniciaro, Office of the Special Trustee, Office of External Affairs, 4400 Masthead St., NE., Room 323, Albuquerque, NM 87109. You may also request e-mail him at frank_perniciaro@ost.doi.gov.

SUPPLEMENTARY INFORMATION:

I. Abstract

Office of Management and Budget (OMB) regulations at 5 CFR 1320, which implement the Paperwork Reduction Act of 1995 (Pub. L. 104-13), require that interested members of the public and affected parties have an opportunity to comment on information collection and recordkeeping activities (see 5 CFR 1320.8(d). This notice identifies an information collection activity that the Office of the Special Trustee for American Indians has submitted to OMB for renewal.

Public Law 103-412, The American Indian Trust Fund Management Reform Act of 1994, allows Indian tribes on a voluntary basis to take their funds out of trust status within the Department of the Interior (and the Federal Government) in order to manage such funds on their own. 25 CFR Part 1200, subpart B, § 1200.13, “How does a tribe apply to withdraw funds?” describes the requirements for application for withdrawal. The Act covers all tribal trust funds including judgment funds as well as some settlements funds, but excludes funds held in Individual Indian Money accounts. Both the Act and the regulations state that upon withdrawal of the funds, the Department of the Interior (and the Federal Government) have no further liability for such funds. Accompanying their application for withdrawal of trust funds, tribes are required to submit a Management Plan for managing the funds being withdrawn, to protect the funds once they are out of trust status.

This information collection allows the Office of the Special Trustee to collect the tribes' applications for withdrawal of funds held in trust by the Department of the Interior. If this information were not collected, the Office of the Special Trustee would not be able to comply with the American Indian Trust Fund Management Reform Act of 1994, and tribes would not be able to withdraw funds held for them in trust by the Department of the Interior.

II. Data

(1) Title: Application to Withdraw Tribal Funds from Trust Status, 25 CFR Part 1200.

OMB Control Number: 1035-0003.

Current Expiration Data: August 31, 2009.

Type of Review: Information Collection Renewal.

Affected Entities: State, Local and Tribal Government.

Estimated annual number of respondents: 2.

Frequent of response: Once per respondent.

(2) Annual reporting and record keeping burden:

Total annual reporting per respondent: 400 hours.

Total annual reporting: 800 hours.

(3) Description of the need and use of the information: The statutorily-required information is needed to provide a vehicle for tribes to withdraw funds from accounts held in trust for them by the United States Government.

(4) As required under 5 CFR 1320.8(d), a Federal Register notice soliciting comments on the information collection was published on May 20, 2009 (74 FR 23738). No comments were received. This notice provides the public with an additional 30 days in which to comment on the proposed information collection activity.

III. Request for Comments

The Department of the Interior invites comments on:

(a) Whether the collection of information is necessary for the proper performance of the functions of the agency, including whether the information will have practical utility;

(b) The accuracy of the agency's estimate of the burden of the collection and the validity of the methodology and assumptions used;

(c) Ways to enhance the quality, utility, and clarity of the information to be collected; and

(d) Ways to minimize the burden of the collection of information on those who are to respond, including through the use of appropriate automated, electronic, mechanical, or other collection techniques or other forms of information techniques.

“Burden” means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

All written comments, with names and addresses, will be available for public inspection. If you wish us to withhold your personal information, you must prominently state at the beginning of your comment what personal information you want us to withhold. We will honor your request to the extent allowable by law. If you wish to view any comments received, you may do so by scheduling an appointment with the Office of the Special Trustee by calling (505) 816-1173.

An agency may not conduct or sponsor, and a person is not required to respond to, a collection of information unless it displays a currently valid Office of Management and Budget control number.

Dated: August 10, 2009.
Donna Erwin,
Acting Special Trustee, Office of the Special Trustee for American Indians.

[FR Doc. E9-19634 Filed 8-14-09; 8:45 am]

BILLING CODE 4310-2W-P